DEPARTMENT OF ENERGY

Federal Energy Regulatory Commission

[Docket No. CP03-290-000]

Northwest Pipeline Corporation; Notice of Request Under Blanket Authorization

May 15, 2003.

Take notice that on May 5, 2003, Northwest Pipeline Corporation (Northwest), 295 Chipeta Way, Salt Lake City, Utah 84158, filed in Docket No. CP03-290-000 a request pursuant to Sections 157.205 and 157.208 of the Federal Energy Regulatory Commission's regulations (18 CFR Sections 157.205 and 157.208) under the Natural Gas Act (NGA) for authorization to construct and operate approximately 3.3 miles of 26-inch replacement pipeline (five segments) and a new 26-inch mainline valve near Machias in Snohomish County, Washington, under Northwest's blanket certificate issued in Docket No. CP82-433-000, pursuant to Section 7 of the NGA, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Northwest states that as a result of housing development in the vicinity of Northwest's mainline near Machias, Washington, five segments of its existing 26-inch Ignacio to Sumas mainline have had a class location change under Department of Transportation's regulations from a Class 2 to a Class 3 location. Accordingly, Northwest proposes to replace these five segments of pipeline totaling approximately 3.3 miles, with thicker walled pipe (from 26-inch 0.281″ wall thickness Grade X-52 to 26-inch 0.312″ wall thickness Grade X-70) and to install a new 26-inch mainline valve at milepost 1411.32 to meet the spacing requirements for Class 3 areas. Northwest states that approximately 865 feet of the replaced segments of pipeline will be abandoned in place, purged, packed with nitrogen and capped and the remainder will be removed. Northwest states that the new replacement pipeline will be installed within its existing 75-foot permanent right-of-way, but a wider construction right-of-way will be required in certain areas, along with additional temporary construction workspace.

According to Northwest, the proposed like-size replacement of segments of pipeline will not change the existing daily design capacity, daily maximum capacity or operating pressures on its system. Northwest states that the total estimated cost for this proposed pipeline replacement project is approximately $9.1 million, including the approximately $380,000 cost of removing replaced segments of pipeline.

Any questions concerning this request may be directed to Gary K. Kotter, Manager, Certificates and Tariffs—3F3, Northwest Pipeline Corporation, PO Box 58900, Salt Lake City, Utah 84158-0900, at (801) 584-7117 or fax (801) 584-7764 or garold.k.kotter@williams.com.

Any person or the Commission's staff may, within 45 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to Section 7 of the NGA.

Comments, protests and interventions may be filed electronically via the Internet in lieu of paper. See 18 CFR 385.2001(a)(1)(iii) and the instructions on the Commission's Web site under the “e-Filing” link. The Commission strongly encourages electronic filings.

Magalie R. Salas,
Secretary.

[FR Doc. 03-12821 Filed 5-21-03; 8:45 am]

BILLING CODE 6717-01-P